DEPARTMENT OF COMMERCE

National Oceanic and Atmospheric Administration

50 CFR Part 660

[Docket No. 100804324-1265-02]

RIN 0648-BC11

Magnuson-Stevens Act Provisions; Fisheries off West Coast States; Biennial Specifications and Management Measures; Inseason Adjustments

AGENCY: National Marine Fisheries Service (NMFS), National Oceanic and Atmospheric Administration (NOAA), Commerce.

ACTION: Final rule; inseason adjustments to biennial groundfish management measures; request for comments.

SUMMARY: This final rule announces an inseason change to management measures in the Pacific Coast groundfish fisheries. This action, which is authorized by the Pacific Coast Groundfish Fishery Management Plan (FMP), is intended to allow fisheries to access more abundant groundfish stocks while protecting overfished and depleted stocks. This rule also implements changes to the incidental retention allowance for halibut in the primary sablefish fishery under the authority of the Northern Pacific Halibut Act.

DATES: Effective 0001 hours (local time) May 1, 2012. Comments on this final rule must be received no later than May 25, 2012.

ADDRESSES: You may submit comments, identified by FDMS docket number NOAA-NMFS-2010-0194 by any one of the following methods:

• Electronic Submissions: Submit all electronic public comments via the Federal eRulemaking Portal http://www.regulations.gov.

• Fax: 206-526-6736, Attn: Colby Brady

• Mail: William W. Stelle, Jr., Regional Administrator, Northwest Region, NMFS, 7600 Sand Point Way NE., Seattle, WA 98115-0070, Attn: Colby Brady.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Colby Brady (Northwest Region, NMFS), phone: 206-526-6117, fax: 206-526-6736, colby.brady@noaa.gov.

SUPPLEMENTARY INFORMATION:

Electronic Access

This final rule is accessible via the Internet at the Office of the Federal Register's Web site at http://www.gpo.gov/fdsys/search/home.action. Background information and documents are available at the Pacific Fishery Management Council's Web site at http://www.pcouncil.org/.

Background

The Pacific Coast Groundfish FMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

On November 3, 2010, NMFS published a proposed rule to implement the 2011-2012 harvest specifications and management measures for most species of the Pacific Coast groundfish fishery (75 FR 67810). The final rule to implement the 2011-12 harvest specifications and management measures for most species of the Pacific Coast Groundfish Fishery was published on May 11, 2011 (76 FR 27508). This final rule was subsequently amended by several inseason actions (76 FR 39313, 76 FR 67092, 76 FR 79122, 77 FR 12503, 77 FR 22679). On September 27, 2011, NMFS published a proposed rule to implement final 2012 specifications for overfished species and assessed flatfish species pursuant to Secretarial Amendment 1 to the Groundfish FMP (76 FR 59634). That final rule was effective January 1, 2012. These specifications and management measures are codified in the CFR (50 CFR part 660, subparts C through G).

Changes to current groundfish management measures implemented by this action were recommended by the Council, in consultation with Pacific Coast Treaty Indian Tribes and the States of Washington, Oregon, and California, at its April 1-April 6, 2012 meeting. The Council recommended adjusting the biennial groundfish management measures for the remainder of the biennial period to respond to updated fishery information and additional inseason management needs. The adjustment to fishery management measures are not expected to result in greater impacts to overfished species than originally projected through the end of 2012. Estimated mortality of overfished and target species are the result of management measures designed to achieve, to the extent possible, but not exceed, annual catch limits (ACLs) of target species while fostering the rebuilding of overfished stocks by remaining within their rebuilding ACLs.

Limited Entry Fixed Gear Fishery Management Measures

Sablefish Daily Trip Limit Fishery

In 2011, the amount of sablefish harvested in the limited entry fixed gear sablefish daily trip limit (DTL) fishery North of 36° N. lat. exceeded its sablefish allocation by 60 mt above its collective target (the northern DTL fixed gear share). This did not impact the northern sablefish ACL, since the rationalized Individual Fishing Quota (IFQ) trawl fishery left 148 mt of sablefish un-harvested in the northern area. However, it is expected that since the IFQ fishery participants have one full year of experience in the IFQ fishery, then higher sablefish allocation attainments will be attained, in which case another overage by the northern LE fixed gear could possibly exceed the northern sablefish ACL. To ensure that harvest opportunities for this healthy stock do not exceed the northern LE fixed gear share allocation, the Council considered decreases to trip limits for sablefish in this fishery and the potential impacts on overall catch levels. Landings projections were made by the Council advisory Groundfish Management Team (GMT) for the northern LE fixed gear fishery under the current 2012 trip limit scenario, which projected an overage in the LE North fishery of 16%, or 43 mt. Projections for the other three fixed gear sablefish fisheries were tracking within their targets for 2012.

Therefore, the Council recommended and NMFS is implementing trip limit changes for the limited entry fixed gear fishery North of 36° N. lat. that decrease sablefish DTL fishery limits from “1,300 lb (590 kg) per week, not to exceed 5,000 lb (2,268 kg) of per 2 months” to “1,000 lb (454 kg) per week, not to exceed 4,000 lb (1,814 kg) per 2 months” beginning in period 3, May 1, 2012 through the end of the year. This decrease in trip limits is not anticipated to increase projected impacts to overfished species.

Incidental Halibut Retention

The International Pacific Halibut Commission (IPHC) establishes total allowable catch (TAC) amounts for Pacific halibut each year in January. Under the authority of the Northern Pacific Halibut Act, and implementing regulations at 50 CFR 300.63, a catch sharing plan, developed by the Pacific Council and implemented by the Secretary, allocates portions of the annual TAC among fisheries off Washington, Oregon, and California. The catch sharing plan for Pacific halibut fisheries in Area 2A (waters off the U.S. West coast) allows an incidental total catch limit for halibut for the 2012 sablefish primary season (i.e. tier limit fishery) of 21,173 lb (9,604 kg). This total catch limit of 21,173 lb (9,604 kg) in 2012 is higher than what has been available to the sablefish primary fishery in recent years (2010-11), which was not high enough to justify an incidental catch limit of halibut in the sablefish primary fishery north of Pt. Chehalis, WA (46°53.30′ N. lat.). The retention limits for halibut were not revised as part of the 2011-2012 harvest specifications and management measures because the Total Allowable Catch of halibut for 2012 was not determined until the IPHC meeting in January, 2012. Although the International Pacific Halibut Commission (IPHC) recommended coast-wide catch limits for 2012 totaled 33,540,000 lb (15,213,488 kg), which is a coast-wide decrease of 18.3% from the 2011 catch limit of 41,070,000 lb. (18,629,038 kg), the area 2A allocation increased 8% from 910,000 lb. (412,769 kg) in 2011 to 989,000 lb. (448,603 kg) for 2012. Due to the increase in the Pacific halibut TAC for area 2A, and the resulting increase in the amount of Pacific halibut available to the sablefish primary fishery as incidental take, the Council considered options to revise the catch ratio established in the groundfish regulations at 50 CFR 660.231 at their first opportunity, the March 2012 meeting. These options were developed to reduce incidental impacts to Pacific halibut in the sablefish primary fishery, and stay below the lower 2012 Pacific halibut allocation. After the opportunity for public review and comment, the Council, at their April meeting, made their final recommendation for adjusting the incidental retention limits for Pacific halibut in the sablefish primary fishery in order to allow incidental take and keep mortality of halibut below the 2012 catch limit of 21,173 lb (9,604 kg).

In order to allow incidental halibut catch in the sablefish primary fishery, which is currently not allowed, the Council recommended and NMFS is implementing incidental halibut retention regulations at 50 CFR 660.231(b)(3)(iv) to read as follows: “50 lb (23 kg) dressed weight of halibut for every 1,000 pounds (454 kg) dressed weight of sablefish landed and up to 2 additional halibut in excess of the 50-pounds-per-1,000-pound ratio per landing.” NMFS in including enforcement related provisions recommended by the Council in 2009, the last time an incidental allowance was allowed. Consequently, the landing requirement applies also to possession, and the term “dressed” is described to mean halibut landed eviscerated with their heads on.

Classification

These actions are taken under the authority of 50 CFR 660.60(c) and 50 CFR 300.63(b)(3) and are exempt from review under Executive Order 12866.

These increases in sablefish limits are taken under the authority of the Magnuson-Stevens Fishery Conservation and Management Act (Magnuson-Stevens Act), and are in accordance with 50 CFR part 660, the regulations implementing the FMP. The adjustment to the halibut incidental catch limit in the sablefish primary fishery is taken under the authority of the Northern Pacific Halibut Act and implementing regulations, and is consistent with the approved catch sharing plan. These actions are based on the most recent data available. The aggregate data upon which these actions are based are available for public inspection at the Office of the Administrator, Northwest Region, NMFS, (see ADDRESSES) during business hours.

This final rule makes routine inseason adjustments to groundfish fishery management measures based on the best available information and is taken pursuant to the regulations implementing the Pacific Coast Groundfish FMP.

For the following reasons, NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective May 1, 2012.

For the following reasons, NMFS finds good cause to waive prior public notice and comment on the revisions to groundfish management measures under 5 U.S.C. 553(b)(3)(B) because notice and comment would be impracticable and contrary to the public interest. Also, for the same reasons, NMFS finds good cause to waive the 30-day delay in effectiveness pursuant to 5 U.S.C. 553(d)(3), so that this final rule may become effective May 1, 2012.

The recently available information upon which the changes to the incidental halibut retention in the sablefish primary fishery north of Pt. Chehalis, WA (46°53.30′ N. lat.), and the subsequent proposed management measure changes are based were originally provided to the Council, and the Council made its potential recommendations available for public comment, at its March 2-7, 2012 meeting. The Council considered the public comments on this matter as well as additional recently available information upon which the changes to the limited entry fixed gear sablefish trip limits North of 36° N. lat. at its April 1-6, 2012 meeting. At the April Council meeting, the Council recommended that these changes be implemented by May 1, 2012. There was not sufficient time after that meeting to draft this document and undergo proposed and final rulemaking before these actions need to be in effect. For the actions to be implemented in this final rule, affording the time necessary for prior notice and opportunity for public comment would prevent NMFS from managing fisheries using the best available science to approach, without exceeding, the ACLs for federally managed species in accordance with the FMP and applicable laws. The adjustments to management measures in this document affect commercial fisheries off northern California to Washington State. These adjustments to management measures must be implemented in a timely manner, by May 1, 2012, to: Allow fishermen an opportunity to harvest their limits in 2012 for sablefish, and allow incidental catch of halibut in the sablefish primary fishery to keep impacts below the 2012 halibut Area 2A allocation.

Decreases to the sablefish cumulative limits in the limited entry fixed gear fishery continue to allow fishermen opportunities to harvest available healthy stocks while staying within the ACLs for these species. Furthermore, these adjustments to management measures must be implemented in a timely manner to allow limited entry primary sablefish fishermen North of Pt. Chehalis, WA (46°53.30′ N. lat.) to prosecute their intended sablefish fishing strategies while accessing a portion of incidental halibut bycatch in a manner that is consistent with the 2A catch sharing plan. If this rule is not implemented immediately, the public could have incorrect information regarding allowed limited entry fixed gear sablefish trip limits, and allowed fishing activities for groundfish fisheries management, which would cause confusion and be inconsistent with the intent of the Council. It would be contrary to the public interest to delay implementation of these changes until after public notice and comment, because making this regulatory change by May 1, 2012, allows harvest as intended by the Council in fisheries that are important to coastal communities in a manner that prevents ACLs of overfished and target species from being exceeded. Furthermore, changes to the sablefish primary fishery regulations to allow incidental halibut retention limits for the sablefish primary fishery are necessary to reduce halibut impacts in area 2A, keeping total mortality of halibut below the 2012 area 2A allocation. These changes must be implemented in a timely manner by May 1, 2012, to allow sablefish fishermen sustainable incidental take in a manner that prevents early closure of the incidental halibut fishery. It would be contrary to the public interest to wait to implement these changes until after public notice and comment, because a delay in reducing retention limits could cause incidental halibut to be unavailable for harvest for as long as possible throughout the sablefish primary season, which runs through October 31.

No aspect of this action is controversial and no change in operating practices in the fishery is required from those intended in this inseason adjustment.

Delaying these changes would also keep management measures in place that are not based on the best available information. Such delay would impair achievement of the Pacific Coast Groundfish FMP objectives of providing for year-round harvest opportunities, extending fishing opportunities as long as practicable during the fishing year, or staying within ACLs or allocations for Pacific halibut.

Accordingly, for the reasons stated above, NMFS finds good cause to partially waive prior notice and comment and the delay in effectiveness.

List of Subjects in 50 CFR Part 660

Fisheries, Fishing, Indian fisheries.

Dated: April 20, 2012.
Galen Tromble,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.231, paragraph (b)(3)(iv) is revised to read as follows:

§ 660.231 Limited entry fixed gear sablefish primary fishery management.

* * * * *

(b) * * *

(3) * * *

(iv) Incidental halibut retention north of Pt. Chehalis, WA (46°53.30′ N. lat.). From May 1 through October 31, vessels authorized to participate in the sablefish primary fishery, licensed by the International Pacific Halibut Commission for commercial fishing in Area 2A (waters off Washington, Oregon, California), and fishing with longline gear north of Pt. Chehalis, WA (46°53.30′ N. lat.) may possess and land up to the following cumulative limits: 50 lb (23 kg) dressed weight of halibut for every 1,000 pounds (454 kg) dressed weight of sablefish landed and up to 2 additional halibut in excess of the 50-pounds-per-1,000-pound ratio per landing. “Dressed” halibut in this area means halibut landed eviscerated with their heads on. Halibut taken and retained in the sablefish primary fishery north of Pt. Chehalis may only be landed north of Pt. Chehalis and may not be possessed or landed south of Pt. Chehalis.

* * * * *

3. Table 2 (North) to part 660, Subpart E, is revised to read as follows:

BILLING CODE 3510-22-P

4. Table 2 (South) to part 660, Subpart E, is revised to read as follows:

[FR Doc. 2012-9963 Filed 4-20-12; 4:15 pm]

BILLING CODE 3510-22-C